DEPARTMENT OF THE INTERIOR

Bureau of Ocean Energy Management

[Docket No. BOEM-2022-0053]

Notice of Availability of the Empire Offshore Wind Final Environmental Impact Statement

AGENCY: Bureau of Ocean Energy Management, Interior.

ACTION: Notice of availability; final environmental impact statement.

SUMMARY: The Bureau of Ocean Energy Management (BOEM) announces the availability of the final environmental impact statement (FEIS) for the construction and operations plan (COP) submitted by Empire Wind, LLC (Empire Wind) for its proposed Empire Wind Offshore Wind Farm Project (Project) offshore New York. The FEIS analyzes the potential environmental impacts of the Project as described in the COP (the proposed action) and the alternatives to the proposed action. The FEIS will inform BOEM's decision whether to approve, approve with modifications, or disapprove the COP.

ADDRESSES: The FEIS and detailed information about the Project, including the COP, can be found on BOEM's website at: https://www.boem.gov/renewable-energy/state-activities/empire-wind.

FOR FURTHER INFORMATION CONTACT: Jessica Stromberg, BOEM Office of Renewable Energy Programs, 45600 Woodland Road, VAM-OREP, Sterling, Virginia 20166, (703) 787-1730 or jessica.stromberg@boem.gov.

SUPPLEMENTARY INFORMATION:

Proposed Action: Empire Wind seeks approval to construct, operate, and maintain the Project: a wind energy facility and its associated export cables on the Outer Continental Shelf (OCS) offshore New York. The Project would be developed within the range of design parameters outlined in the Empire Wind COP, subject to applicable mitigation measures. Empire Wind proposes to develop the lease area in two wind farms, known as Empire Wind 1 (EW 1) and Empire Wind 2 (EW 2) (collectively, the Project). EW 1 and EW 2 will be independent from each other. In total, Empire Wind proposes constructing and operating up to 147 wind turbines and up to 2 offshore substations with 2 cable routes under the terms of Renewable Energy Lease OCS-A 0512.

The Project is located 14 statute miles from Long Island, New York, and 19.5 statute miles from Long Branch, New Jersey. The onshore components of the Project will include up to three export cable landfalls in New York (one for EW 1 and up to two for EW 2) and two onshore substations: EW 1 onshore substation in Brooklyn, New York; and EW 2 onshore substation in either Oceanside, New York, Island Park, New York, or both.

Alternatives: BOEM considered 30 alternatives when preparing the FEIS and carried forward 7 alternatives for further analysis in the FEIS. These seven alternatives include six action alternatives and the no action alternative. Twenty-three alternatives were rejected because they did not meet the purpose and need for the proposed action or did not meet screening criteria, which are presented in FEIS section 2.2. The screening criteria included consistency with law and regulations; technical and economic feasibility; environmental impact; and geographic considerations.

Availability of the FEIS: The FEIS, Empire Wind COP, and associated information are available on BOEM's website at: https://www.boem.gov/renewable-energy/state-activities/empire-wind. BOEM has distributed digital copies of the FEIS to all parties listed in FEIS appendix K. If you require a digital copy on a flash drive or a paper copy, BOEM will provide one upon request, as long as these materials are available. You may request a flash drive or paper copy of the FEIS by contacting Brandi Sangunett at (703) 787-1015 or brandi.sangunett@boem.gov.

Cooperating Agencies: The following Federal agencies and State and city governmental entities participated as cooperating agencies in the preparation of the FEIS: Bureau of Safety and Environmental Enforcement; U.S. Environmental Protection Agency; National Marine Fisheries Service; U.S. Army Corps of Engineers; U.S. Coast Guard; Maritime Administration; National Park Service; New York State Department of Environmental Conservation; New York State Department of State; New York State Department of Environmental Conservation; New York State Energy Research and Development Authority; and New York City Mayor's Office of Environmental Coordination. The following Federal and Tribal entities participated as participating agencies in the preparation of the FEIS: The Shinnecock Indian Nation; Wampanoag Tribe of Gay Head (Aquinnah), Delaware Nation, Delaware Tribe of Indians, Stockbridge-Munsee Community Band of Mohican Indians, U.S. Fish and Wildlife Service; Department of Defense, and Department of the Navy.

Authority: 42 U.S.C. 4231 et seq. (NEPA, as amended) and 40 CFR 1506.6.

Karen Baker,
Chief, Office of Renewable Energy Programs, Bureau of Ocean Energy Management.

[FR Doc. 2023-19956 Filed 9-14-23; 8:45 am]

BILLING CODE 4340-98-P